DEPARTMENT OF HOUSING AND URBAN DEVELOPMENT

[Docket No. FR-4565-N-24]

Notice of Proposed Information Collection: Comment Request; Mortgage Insurance Termination Application for Premium Refund or Distributive Share

AGENCY: Office of the Assistant Secretary for Housing, HUD.

ACTION: Notice.

SUMMARY: The proposed information collection requirement described below will be submitted to the Office of Management and Budget (OMB) for review, as required by the Paperwork Reduction Act. The Department is soliciting public comment on the subject proposal.

DATES: Comments Due Date: November 14, 2000.

ADDRESSES: Interested persons are invited to submit comments regarding this proposal. Comments should refer to the proposal by name and/or OMB Control Number and should be sent to: Wayne Eddins, Reports Management Officer, Department of Housing and Urban Development, 451 7th Street, SW, L'Enfant Plaza Building, Room 8202, Washington, DC 20410.

FOR FURTHER INFORMATION CONTACT: Silas C. Vaughn, Single Family Insurance Operations Division, Department of Housing and Urban Development, 451 7th Street, SW, Washington, DC 20410, telephone (202) 708-2596, Ext. 3445 (this is not a toll free number) for information on form HUD-27050-A. Lillie A. Watson, Single Family Insurance Operations Division, Department of Housing and Urban Development, 451 7th Street, SW, Washington, DC 20410, telephone (202) 708-2596, Ext. 3305 (this is not a toll free number) for information on form HUD-27050-B.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgage Insurance Termination—HUD-27050-A; Application for Premium Refund or Distributive Share Payment—HUD-27050-B.

OMB Control Number, if applicable: 2502-0414.

Description of the need of the information and proposed use: The information collection for the Mortgage Insurance Termination, form HUD-27050-A, is used by servicing mortgages to comply with HUD requirements for reporting the termination of FHA mortgage insurance. This information is used whenever FHA mortgage insurance is terminated and no claim for insurance benefits will be filed. Due to technological advances this information is now submitted electronically to HUD from lenders via Electronic Date Interchange (EDI) and via the Internet through FHA Connection. The information collection is still needed although the hardcopy form is not used. Under the new streamline III program, when the information is submitted it can be used to directly pay eligible homeowners. This condition occurs when the data passes the criteria of certain system edits. As a result, the system generates a disbursement to the eligible homeowners for a refund consisting of the unused portion of the paid premium. The information collection required is used to update HUD's Single Family Insurance System. The billing of mortgage insurance premiums is discontinued as a result of the transaction. Without this information the premium collection/monitoring function would be severely impeded and program data would be unreliable. Under streamline III, when the information is processed but does not pass the series of edits, the system generates a form HUD-27050-B to the homeowners to be completed and returned to HUD for further processing for a premium refund or distributive share. In general, a premium refund is the difference between the amount of prepaid premium and the amount of the premium that has been earned by HUD up to the time the mortgage is terminated. A distributive share payment is a dividend of the Mutual Mortgage Insurance Fund operated by HUD/FHA and may be payable when FHA insurance is terminated depending on the age of the mortgage and other eligibility conditions.

Agency form numbers, if applicable: HUD-27050-A, HUD-27050-B.

Estimation of the total numbers of hours needed to prepare the information collection including number of respondents, frequency of response, and hours of response: The public reporting burden for this collection of information for the HUD-27050-A is estimated to average 5 minutes per response, including the time for reviewing the instructions, searching existing data sources, gathering and maintaining the data needed, completing and reviewing the collection of information, and transmitting the information electronically via EDI or FHA Connection. The number of respondents is 9,500, the frequency of response is on occasion, and the volume per respondents is 1 to 40,000 depending on the size of their FHA portfolio. The public reporting burden for this collection of information for the HUD-27050-B is estimated to average 15 minutes per response, including the time for reviewing the instructions, searching existing data sources, gathering and maintaining the data needed, and completing and reviewing the collection of information. The number of respondents is 382,000, the frequency of response is one time, and the volume per respondents is 1.

Status of the proposed information collection: Reinstatement, without change, or a previously approved information collection.

Authority: The Paperwork Reduction Act of 1995, 44 U.S.C., Chapter 35, as amended.

Dated: September 8, 2000.
William C. Apgar,
Assistant Secretary for Housing-Federal Housing Commissioner.

[FR Doc. 00-23719 Filed 9-14-00; 8:45 am]

BILLING CODE 4210-27-M